ENVIRONMENTAL PROTECTION AGENCY

[EPA-HQ-OPPT-2004-0122; FRL-8139-9]

Nanoscale Materials Stewardship Program; Notice of Public Meeting

AGENCY: Environmental Protection Agency (EPA).

ACTION: Notice.

SUMMARY: EPA is convening a public meeting to receive comments on the development of a voluntary Nanoscale Materials Stewardship Program (NMSP) under the Toxic Substances Control Act (TSCA). In a separate notice in this Federal Register EPA announced the availability of two draft documents for public review and comment: A “Concept Paper for the Nanoscale Materials Stewardship Program under TSCA” and “TSCA Inventory Status of Nanoscale Substances—General Approach.” In a separate notice in this Federal Register EPA also solicited public comments on specific aspects of the proposed information collection for the voluntary NMSP. The purpose of the public meeting, which will occur during the comment period on these documents, is to further discussion and development of NMSP.

DATES: The meeting will be held on August 2, 2007, from 9 a.m. to 4:30 p.m.

You may register for the meeting on or before July 30, 2007. See Unit IV. for additional registration information.

To request accommodation of a disability, please contact the technical person listed under FOR FURTHER INFORMATON CONTACT, preferably at least 10 days prior to the meeting, to give EPA as much time as possible to process your request.

ADDRESSES: The meeting will be held at the Holiday Inn Rosslyn at Key Bridge, 1900 Fort Myer Dr., Arlington, VA 22209.

Requests to make oral comments at the meeting, identified by docket identification (ID) number EPA-HQ-OPPT-2004-0122, may be submitted to the technical person listed under FOR FURTHER INFORMATION CONTACT.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: James Alwood, Chemical Control Division, Office of Pollution Prevention and Toxics (7405M), Office of Pollution Prevention and Toxics, Environmental Protection Agency, 1200 Pennsylvania Ave., NW., Washington, DC 20460-0001; telephone number: (202) 564-8974; e-mail address: alwood.jim@epa.gov.

SUPPLEMENTARY INFORMATION:

I. General Information

A. Does this Action Apply to Me?

This action is directed to the public in general, and may be of particular interest to those persons who manufacture, import, process, or use nanoscale materials. Representatives from industry, non-government organizations concerned with the environment and human health, academia, and government may all be interested in attending.

Since many entities may be interested, the Agency has not attempted to fully describe all of the entities that may have an interest in this matter. If you have any questions regarding the applicability of this action to a particular entity, consult the technical person listed under FOR FURTHER INFORMATION CONTACT.

B. How Can I Get Copies of this Document and Other Related Information?

1. Docket. EPA has established a docket for this action under docket ID number EPA-HQ-OPPT-2004-0122. All documents in the docket are listed in the docket's index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC PublicReading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

2. Electronic access. You may access this Federal Register document electronically through the EPA Internet under the “Federal Register” listings at http://www.epa.gov/fedrgstr.

II. Background

A. What is the NMSP?

The NMSP is a voluntary program intended to complement and support EPA’s new and existing chemical programs under TSCA. TSCA provides EPA the authority to assure that new and existing “chemical substances” are manufactured, processed, used, and disposed of in a manner that protects against unreasonable risks to human health and the environment. Nanoscale materials which meet the TSCA definition of “chemical substances” are subject to TSCA.

B. What Action is the Agency Taking?

EPA is announcing a public meeting to receive further comment on all aspects of NMSP, including the three documents described in this unit. In a separate notice in this Federal Register EPA announced the availability of two documents for a 60-day public review and comment period. One document, entitled “TSCA Inventory Status of Nanoscale Substances—General Approach” (TSCA Inventory paper), describes EPA’s current thinking regarding whether a nanoscale material is a “new” or “existing” chemical substance under TSCA. The other document, entitled “Concept Paper for the Nanoscale Materials Stewardship Program under the TSCA,” is a concept paper describing EPA’s general approach, issues, and considerations for NMSP. The notice requested comments on all aspects of NMSP but identified specific issues of interest to EPA. Please consult that notice for more details.

In a separate notice in this Federal Register EPA also issued a draft Information Collection Request (ICR) covering the information collection related activities related to NMSP and the estimated paperwork burdens associated with those activities. Under the Paperwork Reduction Act (PRA), 44 U.S.C. 3501 et seq., an agency may not conduct or sponsor, and a person is not required to respond to, a collection of information, unless it displays a currently valid control number issued by the Office of Management and Budget (OMB). The PRA also applies to voluntarily submitted information. Before submitting an ICR to OMB for review and approval, the agency must first solicit comment on the draft ICR. The draft ICR covering the potential information collection activities related to NMSP was also made available for a 60-day public review and comment period.

C. Why is EPA taking this Action?

On October 18, 2006, EPA launched a collaborative process and invited stakeholders to participate in the design, development, and implementation of an NMSP under TSCA. The NMSP will complement and support EPA’s new and existing chemical programs under TSCA and will help provide a firmer scientific foundation for regulatory decisions by encouraging the development of key scientific information and appropriate risk management practices for nanoscale chemical substances (nanoscale materials).

The public meeting is an important part of the collaborative development process for NMSP. The meeting is intended to further discussion about NMSP and identify additional details and issues regarding NMSP. EPA will consider all comments. The Agency will also use the information resulting from NMSP to further inform the Agency’s effort to develop its TSCA program for nanoscale materials, including any potential actions that may be needed to provide necessary information to make decisions and protect human health and the environment.

III. Summary of Next Steps

In addition to providing comments on the documents made available and attending the public meeting, EPA invites you to participate in the development process for NMSP. If you would like EPA to notify you as the stewardship program moves forward, please sign-up at http://www.epa.gov/oppt/nano/nano-contact.htm.

EPA will consider all comments received regarding NMSP. EPA will announce the availability of the final versions of the ICR, TSCA Inventory paper, and NMSP in the Federal Register. Once the details of NMSP have been developed and published in the Federal Register, EPA will implement NMSP.

IV. How Can I Request to Participate in this Meeting?

You may register for the meeting electronically through EPA’s website, at http://www.epa.gov/oppt/nano by July 30, 2007. Advance requests will assist in planning adequate seating; however, members of the public may attend without prior registration.

You may submit a request to make oral comments at this meeting to the technical person listed under FOR FURTHER INFORMATION CONTACT. Do not submit any information in your request that is considered CBI. Requests to make oral comments at the meeting, identified by docket ID number EPA-HQ-OPPT-2004-0122, must be received on or before July 30, 2007.

List of Subjects

Environmental protection, Chemicals, Nanoscale materials, Nanotechnology, Pollution prevention.

Dated: July 9, 2007.
James Jones,
Acting Assistant Administrator, Office of Prevention, Pesticides and Toxic Substances.

[FR Doc. E7-13557 Filed 7-11-07; 8:45 am]

BILLING CODE 6560-50-S